DEPARTMENT OF TRANSPORTATION

Federal Aviation Administration

14 CFR Part 39

[Docket No. 2002-NM-211-AD]

RIN 2120-AA64

Airworthiness Directives; Airbus Model A300 B4 Series Airplanes and Model A300 B4-600, A300 B4-600R, and A300 F4-600R (Collectively Called A300-600) Series Airplanes

AGENCY: Federal Aviation Administration, DOT.

ACTION: Notice of proposed rulemaking (NPRM).

SUMMARY: This document proposes the supersedure of an existing airworthiness directive (AD), applicable to certain Airbus Model A300 B4 series airplanes and all Airbus Model A300-600 series airplanes. That AD currently requires a one-time high frequency eddy current inspection to detect cracking of the splice fitting at fuselage frame (FR) 47 between stringers 24 and 25; and corrective actions if necessary. This action would require new repetitive inspections of an expanded area, and would add airplanes to the applicability in the existing AD. The actions specified by the proposed AD are intended to detect and correct cracking of the splice fitting at fuselage FR 47, which could result in reduced structural integrity of the airplane. This action is intended to address the identified unsafe condition.

DATES: Comments must be received by January 16, 2004.

ADDRESSES: Submit comments in triplicate to the Federal Aviation Administration (FAA), Transport Airplane Directorate, ANM-114, Attention: Rules Docket No. 2002-NM-211-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-211-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tom Rodriguez, Aerospace Engineer, International Branch, ANM-116, Transport Airplane Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-211-AD.” The postcard will be date stamped and returned to the commenter.

Availability of NPRMs

Any person may obtain a copy of this NPRM by submitting a request to the FAA, Transport Airplane Directorate, ANM-114, Attention: Rules Docket No. 2002-NM-211-AD, 1601 Lind Avenue, SW., Renton, Washington 98055-4056.

Discussion

On February 9, 2001, the FAA issued AD 2001-03-14, amendment 39-12118 (66 FR 10957, February 21, 2001), applicable to certain Airbus Model A300 series airplanes and all Airbus Model A300-600 series airplanes. That AD requires a one-time high frequency eddy current (HFEC) inspection to detect cracking of the splice fitting at fuselage frame (FR) 47 between stringers 24 and 25; and corrective actions if necessary. That action was prompted by issuance of mandatory continuing airworthiness information by a foreign civil airworthiness authority. The requirements of that AD are intended to detect and correct cracking of the splice fitting at fuselage FR 47, which could result in reduced structural integrity of the airplane.

Actions Since Issuance of Previous AD

Since the issuance of AD 2001-03-14, the Direction Générale de l'Aviation Civile (DGAC), which is the airworthiness authority for France, notified the FAA that an unsafe condition may exist on certain Airbus Model A300 B4 and all A300-600 series airplanes. The DGAC advises that cracks have been found on airplanes on which the modification specified in the existing AD has been done, and HFEC inspections of the modification performed. A laboratory investigation was done on a cracked splice fitting, and the analysis of crack growth rate shows that an inspection program is necessary for all airplanes affected by the existing AD. This program involves expanding the inspection area to fuselage frame (FR) 47 between stringers 24 and 26 (the existing AD specified stringers 24 and 25), and adding new repetitive inspections. Cracking of the splice fitting at fuselage FR 47 could result in reduced structural integrity of the airplane.

Explanation of Relevant Service Information

Airbus has issued Service Bulletins A300-53-0350 (for Model A300 series airplanes) and A300-53-6123 (for Model A300-600 series airplanes), both Revision 01, both dated December 18, 2001. The procedures specified in Revision 01 of the service bulletins are similar to those specified in the original issue of the service bulletins referenced in the existing AD for accomplishment of the inspections and corrective actions. However, Revision 01 defines a new inspection program for pre-mod and post-mod airplanes which expands the inspection area to fuselage frame (FR) 47 between stringers 24 and 26, and adds an HFEC rotating probe inspection after bolt removals. Revision 01 also adds airplanes to the applicability specified in the original issue. Revision 01 of the service bulletins also describes certain repair procedures. The DGAC classified the service bulletins as mandatory and issued French airworthiness directive 2002-184(B), dated April 3, 2002, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed AD

Since an unsafe condition has been identified that is likely to exist or develop on other airplanes of the same type design registered in the United States, the proposed AD would supersede AD 2001-03-14 to require new repetitive inspections of an expanded area and to add airplanes to the applicability in the existing AD. The actions would be required to be accomplished in accordance with the service bulletins described previously, except as discussed below.

Clarification of Compliance Times

The compliance times specified in the service bulletins for doing the high frequency eddy current inspections do not specify whether the inspections should be done at the earlier or later of the recommended flight cycles/flight hours. This proposed AD adds “whichever is first” to those compliance times. In addition, the compliance times specified do not give an effective date for when the inspections are to be accomplished; this proposed AD requires accomplishment of the inspections “after the effective date of this AD.”

Interim Action

We consider this proposed AD interim action. The manufacturer is currently developing a modification that would address the unsafe condition identified in this proposed AD. Once this modification is developed, approved, and available, we may consider additional rulemaking.

Differences Between Proposed AD and Service Information

Although the service bulletins specify that the manufacturer may be contacted for disposition of certain repair conditions, this proposed AD would require the repair of those conditions to be accomplished in accordance with a method approved by either the FAA or the DGAC (or its delegated agent). In light of the type of repair that would be required to address the identified unsafe condition, and in consonance with existing bilateral airworthiness agreements, we have determined that, for the proposed AD, a repair approved by either us or the DGAC would be acceptable for compliance with this proposed AD.

Service Bulletin A300-53-0350 specifies doing the initial inspection at the next C-check, but not exceeding a certain number of flight cycles or flight hours, as the recommended compliance time. Because “C-check” schedules vary among operators, such a nonspecific interval would provide no assurance that operators would do the inspection within the prescribed schedule. This proposed AD would exclude the C-check and specify only flight cycles or flight hours. We find that such a compliance time is appropriate for affected airplanes to continue to operate without compromising safety.

The service bulletins referenced in this proposed AD specify to submit certain inspection findings to the manufacturer; however, this AD does not include such a requirement.

Cost Impact

There are approximately 83 airplanes of U.S. registry that would be affected by this proposed AD.

The inspection of an expanded area that is proposed in this AD action would take approximately 29 work hours per airplane to accomplish, at an average labor rate of $65 per work hour. Based on these figures, the cost impact of the proposed inspection on U.S. operators is estimated to be $156,455, or $1,885 per airplane, per inspection cycle.

The cost impact figure discussed above is based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12118 (66 FR 10957, February 21, 2001), and by adding a new airworthiness directive (AD), to read as follows:

Airbus: Docket 2002-NM-211-AD. Supersedes AD 2001-03-14, Amendment 39-12118.

Applicability: All Model A300 B4-600, B4-600R, and F4-600R (Collectively Called A300-600) series airplanes; and all Model A300 B4 series airplanes; certificated in any category.

Compliance: Required as indicated, unless accomplished previously.

To detect and correct cracking of the splice fitting at fuselage frame (FR) 47, which could result in reduced structural integrity of the airplane, accomplish the following:

Repetitive Inspections

(a) For airplanes defined in Airbus Service Bulletin A300-53-0350, Revision 01, dated December 18, 2001: Do a high frequency eddy current (HFEC) inspection to detect cracking of the splice fitting at fuselage FR 47 between stringers 24 and 26 (left- and right-hand sides), at the applicable times specified in paragraph (a)(1) or (a)(2) of this AD. Repeat the inspection thereafter at the earlier of the flight-cycle/flight-hour intervals specified in the applicable column in Table 2 of Figure 1 and Sheet 1 of the Accomplishment Instructions of the service bulletin. Do the inspections per the service bulletin, excluding Appendix 01.

(1) For airplanes that have accumulated 20,000 or more total flight cycles as of the effective date of this AD: Do the initial inspection at the later of the times specified in paragraphs (a)(1)(i) and (a)(1)(ii) of this AD:

(i) At the earlier of the flight-cycle/flight-hour intervals after the effective date of this AD, as specified in the applicable column in Table 1 of Figure 1 and Sheet 1 of the Accomplishment Instructions of the service bulletin.

(ii) Within 750 flight cycles or 1,500 flight hours after the effective date of this AD, whichever is first.

(2) For airplanes that have accumulated fewer than 20,000 total flight cycles as of the effective date of this AD: Do the initial inspection at the later of the times specified in paragraphs (a)(2)(i) and (a)(2)(ii) of this AD.

(i) At the earlier of the flight-cycle/flight-hour intervals after the effective date of this AD, as specified in the applicable column in Table 1 of Figure 1 and Sheet 1 of the Accomplishment Instructions of the service bulletin.

(ii) Within 1,800 flight cycles or 3,000 flight hours after the effective date of this AD, whichever is first.

(b) For airplanes defined in Airbus Service Bulletin A300-53-6123, Revision 01, dated December 18, 2001: Do the HFEC inspection required by paragraph (a) of this AD at the applicable times specified in paragraph (b)(1) or (b)(2) of this AD. Repeat the inspection thereafter at the earlier of the flight-cycle/flight-hour intervals specified in the applicable column in Table 2 of Figure 1 and Sheet 1 of the Accomplishment Instructions of the service bulletin. Do the inspections per the service bulletin, excluding Appendix 01.

(1) For airplanes that have accumulated 10,000 or more total flight cycles as of the effective date of this AD: Do the initial inspection within 750 flight cycles or 1,900 flight hours after the effective date of this AD, whichever is first.

(2) For airplanes that have accumulated fewer than 10,000 total flight cycles as of the effective date of this AD: Do the initial inspection at the later of the times specified in paragraphs (b)(2)(i) and (b)(2)(ii) of this AD.

(i) At the earlier of the flight-cycle/flight-hour intervals after the effective date of this AD, as specified in the applicable column in Table 1 of Figure 1 and Sheet 1 of the Accomplishment Instructions of the service bulletin.

(ii) Within 1,500 flight cycles or 3,800 flight hours after the effective date of this AD, whichever is first.

Repair

(c) Repair any cracking found during any inspection required by this AD before further flight, per Airbus Service Bulletin A300-53-0350 or A300-53-6123, both Revision 01, both excluding Appendix 01, both dated December 18, 2001; as applicable. Where the service bulletins specify to contact Airbus in case of certain crack findings, this AD requires that a repair be accomplished before further flight in accordance with a method approved by either the Manager, International Branch, ANM-116, FAA, Transport Airplane Directorate; or the Direction Gènèrale de l'Aviation Civile (DGAC) (or its delegated agent).

Alternative Methods of Compliance

(d) In accordance with 14 CFR 39.19, the Manager, International Branch, ANM-116, is authorized to approve alternative methods of compliance for this AD.

Note 1: The subject of this AD is addressed in French airworthiness directive 2002-184(B), dated April 3, 2002.

Issued in Renton, Washington, on December 5, 2003.
Kalene C. Yanamura,
Acting Manager, Transport Airplane Directorate, Aircraft Certification Service.

[FR Doc. 03-31067 Filed 12-16-03; 8:45 am]

BILLING CODE 4910-13-P